DEPARTMENT OF HOMELAND SECURITY

U.S. Citizenship and Immigration Services

Agency Information Collection Activities: Proposed Collection; Comment Request, Request To Enforce Affidavit of Financial Support and Intent To Petition for Custody for Amerasian

ACTION: 60-Day Notice of Information Collection Under Review: Extension, without change, of a currently approved collection; USCIS Form I-363, Request To Enforce Affidavit of Financial Support and Intent To Petition for Custody for Public Law 97-359 Amerasian; OMB Control No.1615-0022.

The Department of Homeland Security, U.S. Citizenship and Immigration Services (USCIS) will be submitting the following information collection request for review and clearance in accordance with the Paperwork Reduction Act of 1995. The information collection notice is published in the Federal Register to obtain comments from the public and affected agencies. Comments are encouraged and will be accepted for sixty days until July 31, 2012.

Written comments and suggestions regarding items contained in this notice, and especially with regard to the estimated public burden and associated response time should be directed to the Department of Homeland Security (DHS), USCIS, Office of Policy and Strategy, Laura Dawkins, Acting Chief, Regulatory Coordination Division, 20 Massachusetts Avenue NW., Washington, DC 20529. Comments may also be submitted to DHS via facsimile to 202-272-8352, or via email at uscisfrcomment@dhs.gov. When submitting comments by email add the OMB Control Number 1615-0022 in the subject box.

Written comments and suggestions from the public and affected agencies should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, without change, of a currently approved collection.

(2) Title of the Form/Collection: Request to Enforce Affidavit of Financial Support and Intent to Petition for Custody for Public Law 97-359 Amerasian.

(3) Agency form number, if any, and the applicable component of the Department of Homeland Security sponsoring the collection: USCIS Form I-363, Request to Enforce Affidavit of Financial Support and Intent to Petition for Custody for Public Law 97-359 Amerasian.; U.S. Citizenship and Immigration Services.

(4) Affected public who will be asked or required to respond, as well as a brief abstract: Primary: Individuals or households. Form I-363 is used by applicants to ensure the financial support of a U.S. citizen. Without the use of Form I-363, the USCIS is not able to ensure the child does not become a public charge.

(5) An estimate of the total number of respondents and the amount of time estimated for an average respondent to respond: 50 respondents responding with an estimated hour burden per response of .5 hour (30 minutes).

(6) An estimate of the total public burden (in hours) associated with the collection: 25 Hours.

If you have additional comments, suggestions, or need a copy of the proposed information collection instrument with instructions, or additional information, please visit the Federal eRulemaking Portal site at: http://www.regulations.gov. You may also contact USCIS, Office of Policy and Strategy, Regulatory Coordination Division, 20 Massachusetts Avenue NW., Washington, DC 20529, Telephone number 202-272-8377.

Dated: May 25, 2012.
Laura Dawkins,
Acting Chief, Regulatory Coordination Division, Office of Policy and Strategy, U.S. Citizenship and Immigration Services, Department of Homeland Security.

[FR Doc. 2012-13258 Filed 5-31-12; 8:45 am]

BILLING CODE 9111-97-P